DEPARTMENT OF TRANSPORTATION

Federal Aviation Administration

Notice of Intent To Rule on Request To Release Airport Property at the Cincinnati/Northern Kentucky International Airport, Hebron, KY

AGENCY: Federal Aviation Administration (FAA), DOT.

ACTION: Request for public comment.

SUMMARY: The Federal Aviation Administration is requesting public comment on the release of land at the Cincinnati/Northern Kentucky International Airport in the city of Hebron, Kentucky. This property, approximately 1.99 acres, will change to a non-aeronautical use. This action is taken under the provisions of Section 125 of the Wendell H. Ford Aviation Investment Reform Act for the 21st Century (AIR 21).

DATES: Comments must be received on or before June 1, 2009.

ADDRESSES: Documents are available for review at the Cincinnati/Northern Kentucky International Airport, 2939 Terminal Drive, 2nd Floor Administration, Hebron, KY 41048 and the FAA Airports District Office, 2862 Business Park Drive, Building G, Memphis, TN 38118. Written comments on the Sponsor's request must be delivered or mailed to: Mr. Phillip J. Braden, Manager, Memphis Airports District Office, 2862 Business Park Drive, Building G, Memphis, TN 38118.

In addition, a copy of any comments submitted to the FAA must be mailed or delivered to Ms. Barbara Schempf, Government Affairs/Noise Abatement Officer, P.O. Box 752000, Cincinnati, OH 45275.

FOR FURTHER INFORMATION CONTACT: Mr. Michael Thompson, Program Manager, Federal Aviation Administration, Memphis Airports District Office, 2862 Business Park Drive, Building G, Memphis, TN 38118. The application may be reviewed in person at this same location, by appointment.

SUPPLEMENTARY INFORMATION: The FAA proposes to rule and invites public comment on the request to release property at the Cincinnati/Northern Kentucky International Airport, Hebron, KY. Under the provisions of AIR 21 (49 U.S.C. 47107(h)(2)).

On April 08, 2009, the FAA determined that the request to release property at Cincinnati/Northern Kentucky International Airport meets the procedural requirements of the Federal Aviation Administration. The FAA may approve the request, in whole or in part, no later than June 1, 2009.

The following is a brief overview of the request:

The Cincinnati/Northern Kentucky International Airport is proposing the release of approximately 1.99 acres of airport property so the property can be used to accommodate the construction of the new Turfway Road Relocation Project.

Any person may inspect, by appointment, the request in person at the FAA office listed above under FOR FURTHER INFORMATION CONTACT.

In addition, any person may, upon appointment and request, inspect the request, notice and other documents germane to the request in person at the Tennessee Department of Transportation, Division of Aeronautics.

Issued in Memphis, TN, on April 23, 2009.
Tommy L. Dupree,
Acting Manager, Memphis Airports District Office, Southern Region.

[FR Doc. E9-9967 Filed 4-29-09; 8:45 am]

BILLING CODE P